DEPARTMENT OF TRANSPORTATION

Office of the Secretary of Transportation

49 CFR Part 37

[Docket No. DOT-OST-2024-0090]

RIN 2105-AF05

Transportation for Individuals With Disabilities; Adoption of Accessibility Standards for Pedestrian Facilities in the Public Right-of-Way

AGENCY: Office of the Secretary of Transportation (OST), U.S. Department of Transportation.

ACTION: Notification of enforcement discretion.

SUMMARY: This document announces that the U.S. Department of Transportation (DOT) will not take enforcement action until March 20, 2025, against regulated entities for failing to comply with the Accessibility Standards for Pedestrian Facilities in the Public Right-of-Way.

DATES: As of February 19, 2025, enforcement of the amendments enacted in the final rule published December 18, 2024, at 89 FR 102800, is delayed until March 20, 2025.

FOR FURTHER INFORMATION CONTACT: For general questions, Holly Ceasar-Fox, Office of the General Counsel, U.S. Department of Transportation, (202) 366-7420, holly.ceasarfox@dot.gov.

For legal questions related to PROWAG, James T. Esselman, Office of Chief Counsel, Federal Highway Administration, (202) 366-6181, james.esselman@dot.gov.

For legal questions related to transit, Diane Alexander, Office of Chief Counsel, Federal Transit Administration, (202) 366-3101, diane.alexander@dot.gov.

For questions related to intercity or high-speed rail, Linda Martin, Federal Railroad Administration, Office of Chief Counsel, 202-689-9408, Linda.Martin@dot.gov.

Electronic Access and Filing: This document, the notice of proposed rulemaking, all comments received, the final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.GovInfo.gov.

SUPPLEMENTARY INFORMATION: On December 18, 2024, DOT issued a final rule titled, “Transportation for Individuals with Disabilities; Adoption of Accessibility Standards for Pedestrian Facilities in the Public Right-of-Way” (PROWAG) (89 FR 102800). The final rule adopted, without modification, the Architectural and Transportation Barriers Compliance Board's PROWAG as DOT's regulatory standards for new construction and alterations of transit stops in the public right-of-way. The final rule became effective on January 17, 2025.

On January 20, 2025, the President issued a memorandum titled, “Regulatory Freeze Pending Review,” ¹ to direct executive departments and agencies to consider postposing for 60 days the effective date for any rules that had been published in the Federal Register but had not taken effect for the purpose of reviewing any questions of fact, law, and policy that the rules may raise. While not explicitly subject to the President's memorandum, DOT is providing notice that it will exercise its enforcement discretion and not enforce the provisions of the PROWAG final rule until March 20, 2025, to allow the officials appointed or designated by the President to review the final rule to ensure that it is consistent with the law and Administration policies.

¹ Available at https://www.whitehouse.gov/presidential-actions/2025/01/regulatory-freeze-pending-review/ (last accessed Feb. 3, 2025).

Issued in Washington, DC, under authority delegated in 49 CFR 1.27(a):
Gregory D. Cote,
Acting General Counsel.

[FR Doc. 2025-02811 Filed 2-18-25; 8:45 am]

BILLING CODE 4910-9X-P